DEPARTMENT OF TRANSPORTATION

Federal Aviation Administration

Notice of Opportunity for Public Comment on Surplus Property Release at the Wetumpka Albertville Regional Airport, Albertville, Alabama

AGENCY: Federal Aviation Administration, DOT.

ACTION: Notice of intent to rule on land release request.

SUMMARY: The FAA is considering a request from the City of Albertville, Alabama to waive the requirement that 2.06 ± acres of airport property located at the Albertville Regional Airport in Albertville, Alabama, be used for aeronautical purposes.

DATES: Comments must be received on or before July 5, 2024.

ADDRESSES: Comments on this notice may be mailed or delivered in triplicate to the FAA to the following address: Jackson Airports District Office, Attn: Brian Hendry, Community Planner, 10 Canebrake Blvd., Suite 100, Flowood, MS 39232.

In addition, one copy of any comments submitted to the FAA must be mailed or delivered to Albertville Regional Airport, Attn: Mr. Mark Chesnut, Airport Manager, City of Albertville, Alabama, Post Office Box 12485, Albertville, AL 35950.

FOR FURTHER INFORMATION CONTACT: Brian Hendry, Community Planner, Jackson Airports District Office, 10 Canebrake Blvd., Suite 100 Flowood, MS 39232, (769) 268-6979. The land release request may be reviewed in person at this same location.

SUPPLEMENTARY INFORMATION: The FAA is reviewing a request by the City of Albertville to release approximately 2.06 ± acres of airport property at Albertville Regional Airport (8A0) under the provisions of 49 U.S.C. 47153(c). The FAA determined that the request to release property at Albertville Regional Airport (8A0) submitted by the Sponsor meets the procedural requirements of the Federal Aviation Administration and the release of the property does not and will not impact future aviation needs at the airport. The FAA may approve the request, in whole or in part, no sooner than thirty days after the publication of this notice. The property will be purchased by Snead State Community College which currently rents the land for an aviation mechanic school. The property is located on the South-Eastern part of the airport along White Oak Road and South of the main airport terminal area. In accordance with 49 U.S.C. 47107(c)(2)(B)(i), the airport will receive fair market value for the property, and the net proceeds from the sale of this property will be used for maintenance and improvements at the Albertville Regional Airport.

Any person may inspect the request in person at the FAA office listed above under FOR FURTHER INFORMATION CONTACT.

In addition, any person may, upon request, inspect the request, notice and other documents germane to the request in person at City of Albertville, 116 Main St., P.O. Box 1248, Albertville, Alabama 35950.

Issued in Flowood, Mississippi on May 29, 2024.
William Schuller,
Manager, Jackson Airports District Office, Southern Region.

[FR Doc. 2024-12306 Filed 6-4-24; 8:45 am]

BILLING CODE 4910-13-P